DEPARTMENT OF LABOR

Employment and Training Administration

[TA-W-51,431]

Tecumseh Products Company, Grafton Operations, Grafton, WI; Notice of Termination of Investigation

Pursuant to section 221 of the Trade Act of 1974, as amended, an investigation was initiated on April 4, 2003 in response to a petition filed by the International Association of Machinists and Aerospace Workers, District 10 on behalf of workers at Tecumseh Products Company, Grafton Operations, Grafton, Wisconsin.

The petitioner has requested that the petition be withdrawn. Consequently, further investigation would serve no purpose, and the investigation has been terminated.

Signed at Washington, DC, this 28th day of April, 2003.
Linda G. Poole,
Certifying Officer, Division of Trade Adjustment Assistance.

[FR Doc. 03-11554 Filed 5-8-03; 8:45 am]

BILLING CODE 4510-30-P